DEPARTMENT OF TRANSPORTATION

Maritime Administration

U.S. Merchant Marine Academy Board of Visitors; Public Meeting

AGENCY: Maritime Administration, Department of Transportation (DOT).

ACTION: Notice of public meeting.

SUMMARY: The U.S. Department of Transportation, Maritime Administration (MARAD) announces a meeting of the U.S. Merchant Marine Academy (USMMA) Board of Visitors (Board). During the meeting, MARAD and USMMA leadership will provide an update on the State of the Regiment of Midshipmen, Educational Programs, Middle States Accreditation, Sea Year, Infrastructure Projects, Draft Facility Master Plan, Athletics, Admissions, Class of 2029, Midshipmen Reimbursements, Midshipmen Well-Being including Sexual Assault and Sexual Harassment Prevention and Response.

DATES: The USMMA BOV meeting will take place on November 25, 2024, from 12 p.m. to 4 p.m. EST. Request to attend the virtual meeting must be received by November 11, 2024. Written statements to be considered during the meeting must be received via email to ExternalAffairs@usmma.edu no later than November 18, 2024. Requests for accommodations for a disability must be received via email to ExternalAffairs@usmma.edu no later than November 18, 2024.

ADDRESSES: The meeting is open to the public and will be held through a virtual forum. The USMMA Board of Visitors' web page can be found at: https://www.usmma.edu/about/leadership/board-visitors. General information about the Board is available at https://www.usmma.edu/about/leadership/board-visitors.

FOR FURTHER INFORMATION CONTACT: The Board's Designated Federal Officer and Point of Contact, Michael O'Hagan, 516-726-6048 or ExternalAffairs@usmma.edu.

SUPPLEMENTARY INFORMATION:

Background

The Board is a Federal Advisory Committee originally established as a Congressional Board by section 51312 of title 46, United States Code “to provide independent advice and recommendations on matters relating to the United States Merchant Marine Academy.” The Board was originally chartered under the Federal Advisory Committee Act (FACA) on October 24, 2017.

Agenda

The meeting agenda for the November meeting is as follows:

1. Welcome remarks and Board maintenance items.

2. Update on the state of the Regiment of Midshipmen

3. Update on the USMMA Educational Programs and Sea Year, Middle States Accreditation, Facilities and Infrastructure Projects and Draft Facility Master Plan, Admissions—Class of 2029, Athletics Programs, Midshipmen Well Being (incl. Sexual Assault and Sexual Harassment Prevention and Response), Midshipmen Reimbursements, Institutional Culture); and

4. Public comment period (not to exceed 10 minutes).

Public Participation

This meeting is open to the public and will be held through a virtual forum. The U.S. Department of Transportation is committed to providing equal access to this meeting for all participants. If you need alternative formats or services because of a disability, such as sign language, interpretation, or other ancillary aids, please contact the person listed in the FOR FURTHER INFORMATION CONTACT section.

Any member of the public is permitted to file a written statement with the Board. Written statements should be sent to the Designated Federal Officer listed in the FOR FURTHER INFORMATION CONTACT section no later than November 11, 2024.

Only written statements will be considered by the Board; no member of the public will be allowed to present questions or speak during the meeting unless requested to do so by a member of the Board.

(Authority: 46 U.S.C. 51312; 5 U.S.C. 552b; 5 U.S.C. Ch.10; 41 CFR parts 102-3.140 through 102-3.165)

By Order of the Maritime Administrator.
T. Mitchell Hudson, Jr.,
Secretary, Maritime Administration.

[FR Doc. 2024-25962 Filed 11-7-24; 8:45 am]

BILLING CODE 4910-81-P